DEPARTMENT OF TRANSPORTATION

Federal Aviation Administration

14 CFR Part 73

[Docket No. FAA-2013-1063; Airspace Docket No. 13-ASO-25]

RIN 2120-AA66

Proposed Amendment of Restricted Areas R-3008A, B, C, and D; Grand Bay Weapons Range, GA

AGENCY: Federal Aviation Administration (FAA), DOT.

ACTION: Notice of proposed rulemaking (NPRM).

SUMMARY: This action proposes to amend the time of designation for restricted areas R-3008A, B, C, and D, Grand Bay Weapons Range, GA, by expanding the timeframe during which the areas may be activated without prior issuance of a Notice to Airmen (NOTAM). This change would better inform the flying public of routine use periods for the airspace as well as reduce the need to issue NOTAMs when necessary to activate the restricted areas outside the published “core hours.”

DATES: Comments must be received on or before March 21, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-1063 and Airspace Docket No. 13-ASO-25, at the beginning of your comments. You may also submit comments through the Internet at http://www.regulations.gov. Comments on environmental and land use aspects to should be directed to:

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-1063 and Airspace Docket No. 13-ASO-25) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2013-1063 and Airspace Docket No. 13-ASO-25.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

Restricted areas R-3008A, B, and C, Grand Bay Weapons Range, GA, were established in July 1987 (52 FR 18552). R-3008D was added in April 1994 (59 FR 10748). Originally, the time of designation for all areas was 0700-1900 Monday-Friday; other times by NOTAM 6 hours in advance. The time of designation for R-3008A, B, C and D was expanded to 0700-2200 local time Monday-Friday; other times by NOTAM 6 hours in advance to accommodate increased night flying training requirements (62 FR 67268, February 26, 1998). The restricted areas may also be activated outside the above “core hours,” including on weekends, provided a NOTAM is issued 6 hours in advance.

For several years, use of the restricted areas by the 23rd Wing at Moody Air Force Base, GA, has routinely extended past the charted 2200 local time on Monday through Thursday (routine use on Fridays has remained 0700-2200 local time). This requires the using agency to issue NOTAMs daily from Monday to Thursday in order to activate the airspace between 2200 and 0130 local time. In addition, current usage has shown that operations during the Monday to Thursday period normally begin at 0800 local time instead of 0700.

The Proposal

The FAA is proposing an amendment to 14 CFR part 73 to change the time of designation for restricted areas R-3008A, B, C, and D, Grand Bay Weapons Range, GA, from “0700-2200 local time, Monday-Friday; other times by NOTAM 6 hours in advance,” to “0800-0130 local time Monday-Thursday; 0700-2200 hours local time Friday; other times by NOTAM 6 hours in advance.” The change would expand the time frame during which the restricted areas could be activated without prior issuance of a NOTAM.

The proposed times would capture the vast majority of the day-to-day operations currently occurring in R-3008, provide more accurate notice to the flying public of expected routine use of the airspace and reduce the time and workload needed to issue daily NOTAMs. A NOTAM would still be required to activate the airspace outside the proposed amended times, to include any weekend operations.

As with the current practice, the restricted areas would be returned to the controlling agency and made available for access by nonparticipating aircraft during periods when the airspace is not needed by the using agency.

The FAA would also make a minor editorial change to the R-3008C description by moving the wording that excludes the airspace around the city of Lakeland, GA from the “designated altitudes” section to the “boundaries” section. This change would retain the exclusion requirement, but would simply move the text to a different place in the description of R-3008C.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This proposed regulation is within the scope of that authority as it would amend the time of designation for restricted area R-3008 to accommodate essential military training and better inform the flying public of expected usage of the airspace.

Environmental Review

This proposal will be subjected to an environmental analysis in accordance with FAA Order 1050.1E, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 (Amended)

2. § 73.30 is amended as follows:

* * * * *

1. R-3008A Grand Bay Weapons Range, GA [Amended]

By removing “Time of designation. 0700-2200 local time, Monday-Friday; other times by NOTAM 6 hours in advance,” and adding in its place “Time of designation. 0800-0130 local time, Monday-Thursday; 0700-2200 local time Friday; other times by NOTAM 6 hours in advance.

2. R-3008B Grand Bay Weapons Range, GA [Amended]

By removing “Time of designation. 0700-2200 local time, Monday-Friday; other times by NOTAM 6 hours in advance,” and adding in its place “Time of designation. 0800-0130 local time, Monday-Thursday; 0700-2200 local time Friday; other times by NOTAM 6 hours in advance.

3. R-3008C Grand Bay Weapons Range, GA [Amended]

By removing the current Boundaries, Designated altitudes and Time of designation, and adding in their place:

Boundaries. Beginning at lat. 31°04′01″ N., long. 83°01′00″ W.; to lat. 31°04′01″ N., long. 83°08′00″ W.; to lat. 31°02′01″ N., long. 83°09′00″ W.; to lat. 31°01′31″ N., long. 83°06′00″ W.; to lat. 30°54′31″ N., long. 83°06′00″ W.; to lat. 30°53′31″ N., long. 83°09′00″ W.; to lat. 30°51′01″ N., long. 83°08′00″ W.; to lat. 30°51′01″ N., long. 83°01′00″ W.; to the point of beginning; excluding the airspace below 1,500 feet AGL within a one nautical mile radius of lat. 31°02′31″ N., long. 83°04′15″ W (Lakeland, GA).

Designated altitudes. 500 feet AGL to 10,000 feet MSL.

Time of designation. 0800-0130 local time, Monday-Thursday; 0700-2200 local time Friday; other times by NOTAM 6 hours in advance.

4. R-3008D Grand Bay Weapons Range, GA [Amended]

By removing “Time of designation. 0700-2200 local time, Monday-Friday; other times by NOTAM 6 hours in advance,” and adding in its place “Time of designation. 0800-0130 local time, Monday-Thursday; 0700-2200 local time Friday; other times by NOTAM 6 hours in advance.

Issued in Washington, DC, on January 29, 2014.
Gary A. Norek,
Manager, Airspace Policy and Regulations Group.

[FR Doc. 2014-02330 Filed 2-3-14; 8:45 am]

BILLING CODE 4910-13-P